DEPARTMENT OF COMMERCE

National Oceanic and Atmospheric Administration

RIN 0648-XA591

Endangered and Threatened Species; Take of Anadromous Fish

AGENCY: National Marine Fisheries Service (NMFS), National Oceanic and Atmospheric Administration (NOAA), Commerce.

ACTION: Notice of receipt and request for comment.

SUMMARY: Notice is hereby given that NMFS has received two applications for direct take permits, in the form of Hatchery and Genetic Management Plans (HGMPs) pursuant to the Endangered Species Act of 1973, as amended (ESA), one application from the Washington Department of Fish and Wildlife (WDFW) and one from the Bureau of Indian Affairs (BIA) on behalf of the Nez Perce Tribe (NPT). The Idaho Department of Fish and Game (IDFG) is identified as a co-applicant in the WDFW HGMP. The proposed permits would expire in 2018. This document serves to notify the public of the availability of the permit applications and addenda for public review, comment, and submission of written data, views, arguments or other relevant information. All comments and other information received will become part of the public record and will be available for review pursuant to section 10(c) of the ESA.

DATES: Comments and other submissions must be received at the appropriate address or fax number (see ADDRESSES) no later than 5 p.m. Pacific time on August 22, 2011.

ADDRESSES: Written responses to the application should be sent to Craig Busack, National Marine Fisheries Service, Salmon Management Division, 1201 NE. Lloyd Boulevard, Suite 1100, Portland, OR 97232. Comments may also be submitted by e-mail to: SnakeFallPlans.nwr@noaa.gov. Include in the subject line of the e-mail comment the following identifier: Comments on Snake Fall Chinook HGMPs. Comments may also be sent via facsimile (fax) to (503) 872-2737. Requests for copies of the permit applications should be directed to the National Marine Fisheries Service, Salmon Management Division, 1201 NE. Lloyd Boulevard, Suite 1100, Portland, OR 97232. The documents are also available on the Internet at http://www.nwr.noaa.gov. Comments received will also be available for public inspection, by appointment, during normal business hours by calling (503) 230-5418.

FOR FURTHER INFORMATION CONTACT: Craig Busack at (503) 230-5412 or e-mail: craig.busack@noaa.gov.

SUPPLEMENTARY INFORMATION:

Species Covered in This Notice

Chinook salmon (Oncorhynchus tshawytscha): threatened, naturally produced and artificially propagated Snake River fall-run.

Background

Section 9 of the ESA and Federal regulations prohibit the “taking” of a species listed as endangered or threatened. The term “take” is defined under the ESA to mean harass, harm, pursue, hunt, shoot, wound, kill, trap, capture, or collect, or to attempt to engage in any such conduct. NMFS may issue permits to take listed species for any act otherwise prohibited by section 9 for scientific purposes or to enhance the propagation or survival of the affected species under section 10(a)(1)(A) of the ESA. NMFS regulations governing permits for threatened and endangered species are promulgated at 50 CFR 222.307.

On May 11, 2011, NMFS received an application from the WDFW for an ESA section 10(a)(1)(A) permit for the direct take of ESA-listed Snake River fall Chinook salmon in order to carry out artificial propagation (hatchery) programs at the Lyons Ferry, Oxbow, and Umatilla Hatcheries and associated facilities to enhance the species. The purpose of these programs is to mitigate for losses of Snake River fall Chinook salmon caused by the four lower Snake River dams and the Hells Canyon dam complex.

Also on May 11, 2011, NMFS received an application from the BIA on behalf of the NPT for an ESA section 10(a)(1)(A) permit for the direct take of ESA-listed Snake River fall Chinook salmon in order to carry out an artificial propagation (hatchery) program at the Nez Perce Tribal Hatchery and associated facilities to enhance the species. The purpose of this program is to mitigate for losses of Snake River fall Chinook salmon caused by the Federal Columbia River Power System.

On July 18, 2011, the applicants jointly submitted an addendum to the HGMPs. The HGMPs and addendum propose continuation of the programs as currently designed with two important additions. First, the programs will be evaluated annually for indications of adverse effects on the Snake River fall Chinook salmon population and, second, the programs will be augmented by new research, monitoring, and evaluation (RM&E) to address uncertainties about hatchery program effects on Snake River fall Chinook salmon viability. The indicator that will be monitored annually and the new RM&E actions are described in the addendum, which is available for public review and comment as part of the permit application package.

Authority

This notice is provided pursuant to section 10(c) of the ESA. NMFS will evaluate each application, associated documents, and comments submitted thereon to determine whether the applications meet the requirements of section 10(a)(1)(A) of the ESA. If it is determined that the requirements are met, permits will be issued to WDFW, IDFG, and NPT as co-permit holders for the purpose of carrying out the hatchery programs. NMFS will publish a record of its final action in the Federal Register.

Dated: July 19, 2011.
Therese Conant,
Acting Chief, Endangered Species Division, Office of Protected Resources, National Marine Fisheries Service.

[FR Doc. 2011-18581 Filed 7-21-11; 8:45 am]

BILLING CODE 3510-22-P